NUCLEAR REGULATORY COMMISSION

[NRC-2024-0183]

Draft NUREG: Guidelines for Inservice Testing at Nuclear Power Plants: Inservice Testing of Pumps and Valves and Inservice Examination and Testing of Dynamic Restraints (Snubbers) at Nuclear Power Plants

AGENCY: Nuclear Regulatory Commission.

ACTION: Draft report; request for comment.

SUMMARY: The U.S. Nuclear Regulatory Commission (NRC) is issuing for public comment a draft report entitled NUREG-1482, Revision 4, “Guidelines for Inservice Testing at Nuclear Power Plants: Inservice Testing of Pumps and Valves and Inservice Examination and Testing of Dynamic Restraints (Snubbers) at Nuclear Power Plants.” This report provides a basic understanding of the regulatory basis for pump and valve inservice testing (IST) programs and dynamic restraint (snubbers) examination and testing programs at nuclear power plants. It also provides information regarding the NRC's involvement in the development of the American Society of Mechanical Engineers (ASME) “Operation and Maintenance of Nuclear Power Plants,” Division 1, “OM Code: Section IST” (OM Code).

DATES: Submit comments by April 14, 2025. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2024-0183. Address questions about Docket IDs in Regulations.gov to Bridget Curran; telephone: 301-415-1003; email: Bridget.Curran@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Nicholas J. Hansing, Office of Nuclear Reactor Regulation, U.S. Nuclear Regulatory Commission, Washington, DC 20555-0001; telephone: 301-415-5318; email: Nicholas.Hansing@nrc.gov.

SUPPLEMENTARY INFORMATION:

I. Obtaining Information and Submitting Comments

A. Obtaining Information

Please refer to Docket ID NRC-2024-0183 when contacting the NRC about the availability of information for this action. You may obtain publicly available information related to this action by any of the following methods:

• Federal Rulemaking Website: Go to https://www.regulations.gov and search for Docket ID NRC-2024-0183.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Draft NUREG-1482, Revision 4, is available in ADAMS under Accession No. ML24277A142.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0183 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

Draft NUREG-1482, Revision 4 is applicable, unless stated otherwise, to editions and addenda (up to and including the 2020 Edition) to the OM Code that are incorporated by reference in paragraph 50.55a of title 10 of the Code of Federal Regulations (10 CFR), “Codes and standards.” The NRC staff discusses in this report IST program topics such as the NRC process for the review of the OM Code, conditions on the use of the OM Code, interpretations of the OM Code, and development of IST programs for new reactors. In this report, the NRC staff provides guidance included in NUREG-1482, Revision 3 that has been updated to reflect IST lessons learned and operating experience since the report was previously issued.

Effective August 16, 2024, the NRC amended 10 CFR 50.55a in a final rule (89 FR 58039; July 17, 2024) to provide more flexibility for nuclear power plant licensees by expanding the code of record interval from 10 years (120 months) to two consecutive IST and inservice inspection (ISI) program intervals. This rulemaking also incorporated by reference revisions to three NRC regulatory guides to approve new, revised, and reaffirmed ASME Code Cases. Accordingly, draft NUREG-1482, Revision 4 includes the new terminology for the code of record interval rather than the previous 120-month interval when discussing IST and ISI programs and also includes a new Appendix C that summarizes the final rule and its conditions.

Dated: March 10, 2025.
For the Nuclear Regulatory Commission.
Laura Dudes,
Acting Director, Office of Nuclear Reactor Regulation.

[FR Doc. 2025-04048 Filed 3-13-25; 8:45 am]

BILLING CODE 7590-01-P